FEDERAL COMMUNICATIONS COMMISSION

47 CFR Part 64

[CC Docket No. 94-129; DA 00-1093]

Common Carrier Bureau Asks Parties To Refresh Record and Seek Additional Comment on Proposal To Require Resellers To Obtain Carrier Identification Codes

AGENCY: Federal Communications Commission.

ACTION: Solicitation of supplemental comments.

SUMMARY: In a Further Notice in this proceeding released on December 23, 1998, the Commission sought comment on three proposals to address “soft slamming” and carrier identification problems arising from the shared use of carrier identification codes (CICs) by facilities-based carriers and switchless resellers of their services. The first proposal—requiring resellers to obtain their own CICs—garnered both strong support and opposition among commenters. Supporters view it as a cost-effective and administratively simple solution to the problems identified by the Commission, whereas opponents raise a number of concerns regarding its potential impact on carriers. In order to focus the record, we invite interested parties to refresh the record and to submit additional comments on a number of specific issues regarding the proposal that resellers obtain their own CICs.

DATES: Submit comments on or before June 6, 2000 and reply comments on or before June 13, 2000.

ADDRESSES: See Supplementary Information section for where and how to file comments.

FOR FURTHER INFORMATION CONTACT: William J. Scher or Dana Walton-Bradford (202) 418-7400 TTY: (202) 418-0484.

SUPPLEMENTARY INFORMATION: In a Further Notice, 64 FR 7763 (February 16, 1999), in this proceeding released on December 23, 1998, the Commission sought comment on three proposals to address “soft slamming” and carrier identification problems arising from the shared use of carrier identification codes (CICs) by facilities-based carriers and switchless resellers of their services. The first proposal—requiring resellers to obtain their own CICs—garnered both strong support and opposition among commenters. Supporters view it as a cost-effective and administratively simple solution to the problems identified by the Commission, whereas opponents raise a number of concerns regarding its potential impact on carriers. In order to focus the record, we invite interested parties to refresh the record and to submit additional comments on a number of specific issues regarding the proposal that resellers obtain their own CICs.

First, we seek comment on what it would cost resellers to purchase translations access alone, as distinguished from Feature Group D access, and on whether the Commission should require that this functionality be offered separately. We encourage commenters to provide specific estimates of costs on both a per-LATA and a nationwide basis.

Second, we request information on whether there are functionally-equivalent services that, in conjunction with elimination of the current NANPA requirement that carriers must purchase Feature Group D access to obtain a CIC, would make it possible for switchless resellers to use CICs without also purchasing translations access directly. If so, can and should the Commission require the purchase of such services by underlying carriers? To what extent are underlying carriers and resellers already taking advantage of any such services, and how are the costs allocated between them? What are the potential drawbacks of such an approach?

Third, we request additional comment on the network, operations support systems, and/or other modifications that underlying carriers and LECs would have to make to accommodate the use of switchless reseller CICs, the likely costs of any such modifications, and the time required to carry them out. We seek comment on whether the Commission should require any such modifications if it adopts the proposed CIC requirement, or whether market incentives are sufficient to encourage carriers to make them of their own accord. Again, we encourage commenters to submit empirical data with their comments, and to provide specific estimates of costs on both a per-LATA and a nationwide basis.

Fourth, we seek additional comment on whether the proposed CIC requirement would be affordable for switchless resellers. We seek comment on whether there are specific measures that would mitigate the financial burden of the proposed CIC requirement on switchless resellers. We also ask commenters to address whether the subject proposal would create additional competitive benefits or disadvantages for resellers, such as giving them greater parity with facilities-based carriers in the timing of customer access to long distance services, or making it more expensive and time-consuming for them to change underlying carriers.

Fifth, we request additional comment on the specific dimensions of soft slamming and the carrier identification problems involving resellers identified in the Further Notice. In particular, we request commenters to address—and to submit empirical data, to the greatest extent possible—concerning the percentage of slamming complaints that involve soft slams and the percentage that involve consumers whose preferred carrier freeze protections have been bypassed.

Finally, we seek additional comment on whether this proposal would create a significant threat of CIC exhaustion, and whether modifications to existing Commission policy restricting CIC assignments may be necessary to accommodate the assignment of CICs to resellers.

Filing Procedures

This will continue to be a permit-but-disclose proceeding for purposes of the Commission's ex parte rules. Pursuant to § 1.1200 and § 1.1206 of the Commission's rules, interested parties may file supplemental filings on or before June 6, 2000, and replies to supplemental filings on or before June 13, 2000. Rules pertaining to oral and written ex parte presentations in permit-but-disclose proceedings are set forth in § 1.1206(b) of the Commission's rules. Such filings may be filed using the Commission's Electronic Comment Filing System (ECFS) or by filing paper copies. See Electronic Filing of Documents in Rulemaking Proceedings, 63 FR 24121 (May 1, 1998).

Filings submitted through the ECFS can be sent as an electronic file via the Internet to <http://www.fcc.gov/e-file/ecfs.html>. Only one copy of an electronic submission must be filed. In completing the transmittal screen, commenters should include their full name, Postal Service mailing address, and the applicable docket or rulemaking number. Parties may also submit electronic filings by Internet e-mail. To receive e-mail filing instructions, commenters should send an e-mail to ecfs@fcc.gov, and should include the following words in the body of the message, “get form <your e-mail address.” A sample form and directions will be sent in reply.

Parties who choose to file by paper must file an original and four copies of each filing with the Commission's Secretary, Magalie Roman Salas, Office of the Secretary, Federal Communications Commission, 445 12th Street, S.W., Washington, D.C. 20554. Parties also must send a paper copy of their filings to Sheryl Todd, Accounting Policy Division, Common Carrier Bureau, Federal Communications Commission, 445 Twelfth Street S.W., Room 5-B540, Washington, D.C. 20554. In addition, parties filing supplemental filings must send diskette copies to the Commission's copy contractor, International Transcription Service, Inc., 1231 20th Street, N.W., Washington, D.C. 20037.

The full text of this document is available for public inspection and copying during regular business hours at the FCC Reference Information Center, Portals II, 445 12th Street, SW, Room CY-A257, Washington, DC, 20554. This document may also be purchased from the Commission's copy contractor, International Transcription Service, Inc. (ITS), 1231 20th Street, NW, Washington, DC 20036, telephone 202-857-3800, facsimile 202-857-3805.

Dated: May 18, 2000.
Irene M. Flannery,
Chief, Accounting Policy Division.

[FR Doc. 00-12981 Filed 5-22-00; 8:45 am]

BILLING CODE 6712-01-P